ENVIRONMENTAL PROTECTION AGENCY

[FRL-8314-8]

Science Advisory Board Staff Office; Notification of a Meeting of the Science Advisory Board

AGENCY: Environmental Protection Agency (EPA).

ACTION: Notice.

SUMMARY: The EPA Science Advisory Board (SAB) Staff Office announces a public face-to-face meeting of the chartered SAB to: (1) Discuss science use in disaster response programs; (2) conduct a quality review of the draft SAB report Advice to EPA on Advancing the Science and Application of Ecological Risk Assessment in Environmental Decision Making and the Draft letter Consultation on EPA's Risk and Technology Review (RTR) Assessment Plan; and (3) continue planning for upcoming SAB meetings.

DATES: The meeting dates are Tuesday, June 19, 2007, from 8:30 a.m. to 5:30 p.m. through and Wednesday, June 20, 2007, from 8:30 a.m. to 12:30 p.m. (Eastern Time).

ADDRESSES: The meeting will be held in the U.S. EPA Science Advisory Board Conference Room, 3rd Floor, Woodies Building, 1025 F Street, NW, Washington, DC 20004, phone (202) 343-9999.

FOR FURTHER INFORMATION CONTACT: Members of the public who wish to obtain additional information about this meeting may contact Mr. Thomas O. Miller, Designated Federal Officer (DFO), by mail at the EPA SAB Staff Office, (1400F), U.S. EPA, 1200 Pennsylvania Avenue, NW., Washington, DC 20460; by telephone at (202) 343-9982; by fax at (202) 233-0643; or by e-mail at: miller.tom@epa.gov. The SAB mailing address is: U.S. EPA, Science Advisory Board (1400F), 1200 Pennsylvania Ave., NW., Washington, DC 20460. General information about the SAB, as well as any updates concerning the meeting announced in this notice, may be found on the SAB Web site at: http://www.epa.gov/sab.

SUPPLEMENTARY INFORMATION: The SAB was established by 42 U.S.C. 4365 to provide independent scientific and technical advice, consultation, and recommendations to the EPA Administrator on the technical basis for Agency positions and regulations. The SAB is a Federal advisory committee chartered under the Federal Advisory Committee Act (FACA), as amended, 5 U.S.C., App. The SAB will comply with the provisions of FACA and all appropriate SAB Staff Office procedural policies.

Background: The SAB is exploring the use of science in preparing for and responding to environmental disasters. The SAB held a meeting on this topic on December 12-14, 2006 during which several non-EPA experts discussed their experiences with disaster preparedness and response (71 FR 67566). The chartered SAB will also conduct a quality review of the draft report, Advice to EPA on Advancing the Science and Application of Ecological Risk Assessment in Environmental Decision Making. Background information on this report can be found in Federal Register Notices published on September 8, 2005 (70 FR 53360), June 20, 2006 (71 FR 35421), and December 27, 2006 (71 FR 77744). The chartered SAB will also conduct a quality review of the draft letter Consultation on EPA's Risk and Technology Review (RTR) Assessment Plan. Background information on this advisory can be found in a Federal Register Notice published on November 14, 2006 (71 FR 66328). Finally, the SAB will discuss plans for future meetings.

Availability of Meeting Materials: Materials in support of this meeting will be placed on the SAB Web site at http://www.epa.gov/sab in advance of this meeting.

Procedures for Providing Public Input: Interested members of the public may submit relevant written or oral information for the SAB to consider during the advisory process.

Oral Statements: In general, individuals or groups requesting an oral presentation at a public meeting will be limited to five minutes per speaker, with no more than one hour for all speakers. Interested parties should contact Mr. Miller, DFO, at the contact information provided above, by June 12, 2007, to be placed on the public speaker list for the June 19-20, 2007 meeting.

Written Statements: Written statements should be received in the SAB Staff Office by June 12, 2007, so that the information may be made available to the SAB for their consideration prior to this meeting. Written statements should be supplied to the DFO in the following formats: one hard copy with original signature, and one electronic copy via e-mail to: miller.tom@epa.gov (acceptable file format: Adobe Acrobat PDF, WordPerfect, MS Word, MS PowerPoint, or Rich Text files in IBM-PC/Windows 98/2000/XP format).

Meeting Accommodations: For information on access or services for individuals with disabilities, please contact Mr. Thomas Miller at (202) 343-9982, or via e-mail at miller.tom@epa.gov. To request accommodation of a disability, please contact Mr. Miller, preferably at least 10 days prior to the meeting, to give EPA as much time as possible to process your request.

Dated: May 8, 2007.
Anthony Maciorowski,
Deputy Director, EPA Science Advisory Board Staff Office.

[FR Doc. E7-9290 Filed 5-14-07; 8:45 am]

BILLING CODE 6560-50-P